DEPARTMENT OF COMMERCE

National Oceanic and Atmospheric Administration

RIN 0648-XC597

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an exempted fishing permit application contains all of the required information and warrants further consideration. This exempted fishing permit would facilitate compensation fishing under the monkfish Research Set-Aside Program by exempting vessels from monkfish days-at-sea possession limits. The compensation fishing is in support of a 2012 Monkfish Research Set-Aside project that is attempting to validate monkfish aging methods. The project is being conducted by the University of Massachusetts, Dartmouth, School for Marine Science and Technology.

Regulations under the Magnuson-Stevens Fishery Conservation and Management Act require publication of this notification to provide interested parties the opportunity to comment on applications for proposed exempted fishing permits.

DATES: Comments must be received on or before April 29, 2013.

ADDRESSES: You may submit written comments by any of the following methods:

• Email: nero.efp@noaa.gov. Include in the subject line “Comments on SMAST Monkfish RSA EFP.”

• Mail: John K. Bullard, Regional Administrator, NMFS, Northeast Regional Office, 55 Great Republic Drive, Gloucester, MA 01930. Mark the outside of the envelope “Comments on SMAST monkfish RSA EFP.”

• Fax: (978) 281-9135.

FOR FURTHER INFORMATION CONTACT: Jason Berthiaume, Fishery Management Specialist, 978-281-9177.

SUPPLEMENTARY INFORMATION: To conduct compensation fishing in support of the project, SMAST initially submitted an application for an EFP on April 20, 2012, requesting exemptions from the monkfish DAS possession limits. However, due to complications resulting from the listing of Atlantic sturgeon under the Endangered Species Act, an EFP was not issued. The applicant has since modified their EFP application by stating that vessels would only fish under the EFP in depths greater than 50 fathoms (91 m), where Atlantic sturgeon interactions are extremely rare. The revised application was submitted on March 18, 2013. Twenty-five vessels have been identified by the applicant to conduct monkfish compensation fishing under the requested EFP. The vessels conducting the compensation fishing would use standard commercial gillnet gear.

Monkfish EFPs that waive possession limits were first issued in 2007, and each year thereafter through 2011. The EFPs were approved to increase operational efficiency and to optimize research funds generated from research set-aside (RSA) DAS. To ensure that the amount of monkfish harvested by vessels operating under the EFPs was similar to the amount of monkfish that was anticipated to be harvested under the 500 RSA DAS set-aside by the New England and Mid-Atlantic Fishery Management Councils, NMFS associated 3,600 lb (1,633 kg) of whole monkfish per RSA DAS. This amount of monkfish was the equivalent of a double possession limit of Permit Category A and C vessels fishing in the SFMA. This was deemed a reasonable approximation because it is reflective of how the standard monkfish commercial fishery operates. Further, it is likely that RSA grant recipients would optimize their RSA DAS award by utilizing this possession limit.

Prior to the submission of SMAST's RSA proposal, Amendment 5 to the Monkfish FMP was implemented. This adjusted the tail-to-whole-weight conversion factor from 3.32 to 2.91, which essentially reduced the whole weight possession limits. However, SMAST has noted that, because its RSA proposal and budget were developed in a manner that was consistent with previously approved EFPs, the request is justified. Therefore, if approved, participating vessels could use up to 129 DAS, or up to 464,400 lb (210,648.3 kg) of whole monkfish under the EFP, whichever limit is reached first.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 9, 2013.
Kara Meckley,
Acting Deputy Director, Office of Sustainable Fisheries, National Marine Fisheries Service.

[FR Doc. 2013-08659 Filed 4-11-13; 8:45 am]

BILLING CODE 3510-22-P